DEPARTMENT OF ENERGY

Office of International Regimes and Agreements; Proposed Subsequent Arrangement

AGENCY: Department of Energy.

ACTION: Subsequent arrangement.

SUMMARY: This notice has been issued under the authority of Section 131 of the Atomic Energy Act of 1954, as amended (42 U.S.C. 2160). The Department is providing notice of a proposed subsequent arrangement under the Agreement for Cooperation Between the United States of America and the Government of Australia Concerning Peaceful Uses of Nuclear Energy and the Agreement Between the United States and the Argentine Republic Concerning Peaceful Uses of Nuclear Energy.

This subsequent arrangement concerns the retransfer of 10,120.40 kgs of tritiated heavy water in 46 stainless steel drums from the Australian Nuclear Science and Technology Organization (ANSTO) in Lucas Heights, Australia to NucleoElectrica Argentina SA (NA SA) in Buenos Aires, Argentina. The heavy water is 99.32% pure and contains 10 grams of tritium. The material, which is currently located at ANSTO, will be transferred to the Atuche and Embalse nuclear power stations and will be used as coolant and moderator material in these nuclear power stations operated by NA SA. ANSTO originally obtained the material from Atomic Energy Canada Limited and exchanged this material with an equivalent quantity of U.S. obligated material.

In accordance with Section 131 of the Atomic Energy Act of 1954, as amended, we have determined that this subsequent arrangement is not inimical to the common defense and security.

This subsequent arrangement will take effect no sooner than fifteen days after the date of publication of this notice.

Dated: August 10, 2009.
For the Department of Energy.
Anatoli Welihozkiy,
Director (Acting), Office of International Regimes and Agreements.

[FR Doc. E9-19704 Filed 8-14-09; 8:45 am]

BILLING CODE 6450-01-P